ENVIRONMENTAL PROTECTION AGENCY

40 CFR Part 52

[EPA-R03-OAR-2019-0686; FRL-10014-39-Region 3]

Approval and Promulgation of Air Quality Implementation Plans; Pennsylvania; Reasonably Available Control Technology Determinations for Case-by-Case Sources Under the 1997 and 2008 8-Hour Ozone National Ambient Air Quality Standards

AGENCY: Environmental Protection Agency (EPA).

ACTION: Final rule.

SUMMARY: The Environmental Protection Agency (EPA) is approving multiple state implementation plan (SIP) revisions submitted by the Commonwealth of Pennsylvania. These revisions were submitted by the Pennsylvania Department of Environmental Protection (PADEP) to establish and require reasonably available control technology (RACT) for individual major sources of volatile organic compounds (VOC) and nitrogen oxides (NOX) pursuant to the Commonwealth of Pennsylvania's conditionally approved RACT regulations. In this action, EPA is only approving source-specific (also referred to as “case-by-case”) RACT determinations for 19 major sources. These RACT evaluations were submitted to meet RACT requirements for the 1997 and 2008 8-hour ozone national ambient air quality standards (NAAQS). EPA is approving these revisions to the Pennsylvania SIP in accordance with the requirements of the Clean Air Act (CAA) and EPA's implementing regulations.

DATES: This final rule is effective on November 16, 2020.

ADDRESSES: EPA has established a docket for this action under Docket ID Number EPA-R03-OAR-2019-0686. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the For Further Information Contact section for additional availability information.

FOR FURTHER INFORMATION CONTACT: Ms. Emily Bertram, Permits Branch (3AD10), Air & Radiation Division, U.S. Environmental Protection Agency, Region III, 1650 Arch Street, Philadelphia, Pennsylvania 19103. The telephone number is (215) 814-5273. Ms. Bertram can also be reached via electronic mail at bertram.emily@epa.gov.

SUPPLEMENTARY INFORMATION:

I. Background

On March 20, 2020, EPA published a notice of proposed rulemaking (NPRM). 85 FR 16021. In the NPRM, EPA proposed approval of case-by-case RACT determinations for 19 sources in Pennsylvania for the 1997 and 2008 8-hour ozone NAAQS. The case-by-case RACT determinations for these 19 sources were included in SIP revisions submitted by PADEP on August 14, 2017, November 21, 2017, April 26, 2018, June 26, 2018, and October 29, 2018.

Under certain circumstances, states are required to submit SIP revisions to address RACT requirements for major sources of NOX and VOC or any source category for which EPA has promulgated control technique guidelines (CTG) for each ozone NAAQS. Which NOX and VOC sources in Pennsylvania are considered “major,” and therefore to be addressed for RACT revisions, is dependent on the location of each source within the Commonwealth. Sources located in nonattainment areas would be subject to the “major source” definitions established under the CAA based on their classification. In the case of Pennsylvania, sources located in any areas outside of moderate or above nonattainment areas, as part of the Ozone Transport Region (OTR), are subject to source thresholds of 50 tons per year (tpy). CAA section 184(b).

On May 16, 2016, PADEP submitted a SIP revision addressing RACT under both the 1997 and 2008 8-hour ozone NAAQS in Pennsylvania. PADEP's May 16, 2016 SIP revision intended to address certain outstanding non-CTG VOC RACT, VOC CTG RACT, and major NOX RACT requirements for both standards. The SIP revision requested approval of Pennsylvania's 25 Pa. Code 129.96-100, Additional RACT Requirements for Major Sources of NOX and VOCs (the “presumptive” RACT II rule). Prior to the adoption of the RACT II rule, Pennsylvania relied on the NOX and VOC control measures in 25 Pa. Code 129.92-95, Stationary Sources of NOX and VOCs, (the RACT I rule) to meet RACT for non-CTG major VOC sources and major NOX sources. The requirements of the RACT I rule remain approved into Pennsylvania's SIP and sources are obligated to follow them.¹ On September 26, 2017, PADEP submitted a supplemental SIP, dated September 22, 2017, which committed to address various deficiencies identified by EPA in their May 16, 2016 “presumptive” RACT II rule SIP revision.

¹ The RACT I Rule was approved by EPA into the Pennsylvania SIP on March 23, 1998. 63 FR 13789.

On May 9, 2019, EPA conditionally approved the RACT II rule based on the commitments PADEP made in its September 22, 2017 supplemental SIP. 84 FR 20274. In EPA's final conditional approval, EPA noted that PADEP would be required to submit, for EPA's approval, SIP revisions to address any facility-wide or system-wide averaging plan approved under 25 Pa. Code 129.98 and any case-by-case RACT determinations under 25 Pa. Code 129.99. PADEP committed to submitting these additional SIP revisions within 12 months of EPA's final conditional approval, specifically May 9, 2020. The SIP revisions addressed in this rule are part of PADEP's efforts to meet the conditions of its supplemental SIP and EPA's conditional approval of the RACT II Rule.

II. Summary of SIP Revisions and EPA Analysis

A. Summary of SIP Revisions

To satisfy a requirement from EPA's May 9, 2019 conditional approval, PADEP has submitted to EPA SIP revisions addressing case-by-case RACT requirements for major sources in Pennsylvania subject to 25 Pa. Code 129.99. In the Pennsylvania RACT SIP revisions, PADEP included a case-by-case RACT determination for the existing emissions units at each of the major sources of NOX and/or VOC that required a source-specific RACT determination. In PADEP's RACT determinations, an evaluation was completed to determine if previously SIP-approved, case-by-case RACT emission limits or operational controls (herein referred to as RACT I and contained in RACT I permits) were more stringent than the new RACT II presumptive or case-by-case requirements. If more stringent, the RACT I requirements will continue to apply to the applicable source. If the new case-by-case RACT II requirements are more stringent than the RACT I requirements, then the RACT II requirements will supersede the prior RACT I requirements.² Here, EPA is taking action on SIP revisions pertaining to case-by-case RACT requirements for 19 major sources of NOX and/or VOC in Pennsylvania as summarized in Table 1.

² While the prior SIP-approved RACT I permit will remain part of the SIP, this RACT II rulemaking will incorporate by reference the RACT II requirements through the RACT II permit and clarify the ongoing applicability of specific conditions in the RACT I permit.

Table 1—Nineteen Major NOX and/or VOC Sources in Pennsylvania Subject to Case-by-Case RACT II Determinations Under the 1997 and 2008 8-Hour Ozone NAAQS
Major source (county) | 1-Hour ozone RACT source? (RACT I) | Major source pollutant (NOX and/or VOC) | RACT II permit (effective date)
Exelon Generation—Fairless Hills (Bucks) | Yes | NOX | 09-00066 (01/27/17)
The Boeing Co. (Delaware) | Yes | NOX and VOC | 23-00009 (01/03/17)
Cherokee Pharmaceuticals, LLC (Northumberland) | Yes | VOC | 49-00007 (04/24/17)
First Quality Tissue, LLC (Clinton) | No | VOC | 18-00030 (09/18/17)
JW Aluminum Company (Lycoming) | No | VOC | 41-00013 (03/01/17)
Ward Manufacturing, LLC (Tioga) | No | VOC | 59-00004 (01/10/17)
Wood-Mode Inc. (Snyder) | Yes | VOC | 55-00005 (07/12/17)
Foam Fabricators Inc. (Columbia) | No | VOC | 19-00002 (12/20/17)
Resilite Sports Products Inc. (Northumberland) | Yes | VOC | 49-00004 (08/25/17)
NRG Energy Center Paxton, LLC (Dauphin) | Yes | NOX | 22-05005 (03/16/18)
Containment Solutions/Mt. Union Plant (Huntingdon) | Yes | VOC | 31-05005 (07/10/18)
Armstrong World Ind./Marietta Ceiling Plant (Lancaster) | Yes | VOC | 36-05001 (06/28/18)
Jeraco Enterprises Inc. (Northumberland) | Yes | VOC | 49-00014 (01/26/18)
Blommer Chocolate Company (Montgomery) | No | VOC | 46-00198 (01/26/17)
Texas Eastern—Bernville (Berks) | Yes | NOX | 06-05033 (03/16/18)
Texas Eastern—Shermans Dale (Perry) | Yes | NOX | 50-05001 (03/26/18)
Texas Eastern—Perulack (Juniata) | Yes | NOX and VOC | 34-05002 (03/27/18)
Texas Eastern—Grantville (Dauphin) | Yes | NOX | 22-05010 (03/16/18)
Texas Eastern—Bechtelsville (Berks) | Yes | NOX | 06-05034 (04/19/18)

The case-by-case RACT determinations submitted by PADEP consist of an evaluation of all reasonably available controls at the time of evaluation for each affected emissions unit, resulting in a PADEP determination of what specific emission limit or control measures, if any, satisfy RACT for that particular unit. The adoption of new, additional, or revised emission limits or control measures to existing SIP-approved RACT I requirements were specified as requirements in new or revised Federally enforceable permits (hereafter RACT II permits) issued by PADEP to the source. The RACT II permits, which revise or adopt additional source-specific limits and/or controls, have been submitted as part of the Pennsylvania RACT SIP revisions for EPA's approval in the Pennsylvania SIP under 40 CFR 52.2020(d)(1). The RACT II permits submitted by PADEP are listed in the last column of Table 1 of this preamble, along with the permit effective date, and are part of the docket for this rule, which is available online at https://www.regulations.gov, Docket No. EPA-R03-OAR-2019-0686.³ EPA is incorporating by reference in the Pennsylvania SIP, via the RACT II permits, source-specific RACT emission limits and control measures under the 1997 and 2008 8-hour ozone NAAQS for certain major sources of NOX and VOC emissions.

³ The RACT II permits are redacted versions of a facility's Federally enforceable permits and reflect the specific RACT requirements being approved into the Pennsylvania SIP.

B. EPA's Proposed Action

PADEP's SIP revisions incorporate its determinations of source-specific RACT II controls for individual emission units at major sources of NOX and/or VOC in Pennsylvania, where those units are not covered by or cannot meet Pennsylvania's presumptive RACT regulation. After thorough review and evaluation of the information provided by PADEP in its five SIP revision submittals for 19 major sources of NOX and/or VOC in Pennsylvania, EPA proposed to find that PADEP's case-by-case RACT determinations and conclusions establish limits and/or controls on individual sources that are reasonable and appropriately considered technically and economically feasible controls.

PADEP, in its RACT II determinations, considered the prior source-specific RACT I requirements and, where more stringent, retained those RACT I requirements as part of its new RACT determinations. In the NPRM, EPA proposed to find that all the proposed revisions to previously SIP approved RACT I requirements would result in equivalent or additional reductions of NOX and/or VOC emissions. The proposed revisions should not interfere with any applicable requirement concerning attainment or reasonable further progress with the NAAQS or section 110(l) of the CAA.

Other specific requirements of Pennsylvania's 1997 and 2008 8-hour ozone NAAQS case-by-case RACT determinations and the rationale for EPA's proposed action were explained in the NPRM, and its associated technical support document (TSD), and will not be restated here.

III. Public Comments and EPA Responses

EPA received comments from 27 commenters on the March 20, 2020 NPRM. 85 FR 16021. A summary of the comments and EPA's responses are discussed in this section of the preamble. A copy of the comments can be found in the docket for this action.

Comment 1: EPA received two nearly identical comments that stated, “EPA should extend the comment period for this and all rulemakings until the global pandemic of SARS-COV-2 is over.” The commenters further stated that “EPAs [sic] decision to continue the regulatory process during the COVID-19 pandemic is unlawful because EPA is forcing the public to choose between their own health and safety or participate in this public process.” The commenters noted that environmental advocacy groups have asked EPA to put rulemakings on hold because they “violate the APA and don't allow the public to fully review EPA's decision while a global pandemic is in full force.” The commenters request EPA extend the public comment period for an additional 30 days after the “President's National Emergency Order or Pennsylvania's Emergency Order are pulled back.” Lastly, one commenter stated that “EPA has released numerous orders waiving environmental requirements such as monitoring required by Part 75 and waiving enforcement of environmental rules due to COVID-19, recognizing that industry may not be able to comply with these rules due to the global pandemic but EPA still expects the public to review and comment on rulemakings such as this.”

Response 1: EPA disagrees with the commenters' assertion that it should extend all public comment periods until the end of the “global pandemic of SARS-COV-2.” EPA also disagrees that “EPAs decision to continue the regulatory process during the COVID-19 pandemic is unlawful because EPA is forcing the public to choose between their own health and safety or participate in this public process.” Prior to the COVID-19 pandemic, EPA was providing the public with online access to rulemaking actions and supporting documentation. During the pandemic, EPA has continued to make those materials available to the public; this proposed rulemaking was no exception. EPA also disagrees that its action, proposing approval of RACT for 19 facilities in Pennsylvania, violates the Administrative Procedures Act (APA). EPA followed necessary APA procedures for this proposed rulemaking, which included providing the public with a 30-day comment period and access to all supporting documentation related to the proposed rulemaking.

Finally, EPA understands the commenters' concerns with respect to the challenges the public is facing with respect to COVID-19 and the global pandemic, but that alone is not a reason for EPA to extend its public comment period for this proposed rulemaking. The commenters failed to provide new information or a compelling reason as to why EPA should extend the public comment period for this specific rulemaking action. The public was given adequate time and access to information necessary to formulate comments on this rule. Therefore, EPA continues to believe that the 30-day comment period was appropriate and did not feel compelled to extend the public comment period, as requested by the commenters. In this action, EPA is finalizing its rulemaking action in accordance with APA requirements.

Comment 2: One commenter questioned why EPA is reproposing this action, since it already proposed action on these RACT permits in July 2019 under Docket EPA-R03-OAR-2017-0290. The commenter then goes on to assert that “EPA is attempting to circumvent the comments submitted under this prior proposal and trying to avoid responding to these comments!” The commenter further asserts that EPA should be “forced to publish the comments and properly respond to them” noting that the “previous proposal received 66 comments, and then for some reason most of the documents associated with that proposal have disappeared from the docket.” The commenter makes statements that “what EPA is doing is illegal” and responding to those comments is “required by the APA” and that EPA should “respond to each of them as required.” Lastly, the commenter attempts to “incorporate by reference all those comments into this comment and request EPA to respond to those comments as if they were copied here verbatim.”

Response 2: EPA acknowledges that it previously proposed to approve certain source-specific RACT determinations for 21 facilities in its July 31, 2019 NPRM. See 84 FR 37167. In its current proposed rulemaking, EPA explained that on August 30, 2019, the last day of the comment period for the July 31, 2019 NPRM, EPA became aware through a comment submitted to Regulations.gov that one of the files contained in the SIP submission—which EPA made public in the docket for that rulemaking proposing to approve the submission (Docket No. EPA-R03-OAR-2017-0290-0064)—contained potential CBI. EPA restricted public access in Regulations.gov to that file containing potential CBI the same day, prior to the end of the comment period. On September 30, 2019, EPA became aware through additional comments submitted to Regulations.gov during the comment period that additional potential CBI was contained in other files EPA had posted to Docket No. EPA-R03-OAR-2017-0290-0064. EPA restricted public access in Regulations.gov to the entire docket that same day. In accordance with EPA's CBI regulations at 40 CFR part 2, subpart B, EPA has contacted each business affected by the inclusion of potential CBI in the docket files to inform them that potential CBI was made publicly available on Regulations.gov, and afforded each business an opportunity to assert a claim of business confidentiality for any of their information posted by EPA to Docket No. EPA-R03-OAR-2017-0290-0064. See 85 FR 16021, 16022 (March 20, 2020).

EPA subsequently proposed to approve 19 of the 21 Pennsylvania case-by-case RACT determinations in this new rulemaking. EPA has established a docket for this new rulemaking that does not include any materials claimed as CBI (Docket ID No. EPA-R03-OAR-2019-0686). In EPA's NPRM, commenters were instructed to submit any comments they have on EPA's proposed approval of these 19 case-by-case RACT determinations to this new docket number. Because this is a new rulemaking, EPA will not consider any comments on its prior proposal made at Docket ID No. EPA-R03-OAR-2017-0290-0064. The proposal that is being finalized here specifically stated that “[a]ny prior comments will need to be resubmitted to Docket ID No. EPA-R03-OAR-2019-0686 during the comment period for this proposed rulemaking for EPA to consider them.” Id. Also, the NPRM contains standard language explaining that the written comment is considered the official comment and should include all the points the commenter wants to make. Comments or comment content outside the primary submission are generally not considered.

For the reasons stated here, and in its March 20, 2020 NPRM, EPA disagrees with the commenter's assertion that it is trying to “circumvent the comments” or that it is doing something “illegal.” To the contrary, EPA made its intentions clear to the public that this was a new rulemaking and provided the public with the legally required 30-day public comment period. In its March 20, 2020 NPRM, EPA articulated that the previous comments would not be responded to and the public would be required to resubmit any comments based on the documentation provided in the docket for the March 20, 2020 rulemaking. Similarly, the commenter is not able to “incorporate by reference all those comments into this comment and request EPA to respond to those comments as if they were copied here verbatim.” As instructed, if the commenter wanted EPA to address comments made on the previous July 31, 2019 NPRM, the commenter needed to resubmit those specific comments during this public comment period and EPA would respond to them, as required by the APA.

Comment 3: The commenter asserts that for the sources at Blommer Chocolate Company (Blommer), EPA is proposing to approve 12-month rolling tpy VOC limits as case-by-case RACT despite EPA policy guidance documents that require daily VOC RACT limits and in no case should those limits exceed 30-day averages because ozone is a short-term standard. The commenter cites several prior comments that EPA made to PADEP that suggested that these 12-month rolling tpy limits proposed as case-by-case VOC RACT for the sources at Blommer Chocolate are inadequate based on existing policy guidance. The commenter demands that EPA disapprove PADEP's case-by-case RACT determination for Blommer Chocolate and requests re-evaluation so that appropriate VOC emission limits with averages no greater than 30-days can be imposed on the sources at this facility.

Response 3: While the commenter does not specify the particular EPA policy guidance documents being referenced, EPA agrees that existing guidance does highlight the need for emission controls that are reasonably consistent with protecting a short-term NAAQS such as ozone. In those cases where an emission limit for a RACT control can be quantified, EPA guidance states that averaging periods for such limits should be as short as practicable and in no case longer than 30 days.⁴

⁴ See the January 20, 1984 EPA guidance memorandum titled “Averaging Times for Compliance with VOC Emission Limits—SIP Revision Policy.”

Since the 1970's, EPA has consistently defined RACT as the lowest emission limit that a particular source is capable of meeting by the application of the control technology that is reasonably available considering technological and economic feasibility. The establishment of case-by-case RACT requirements to reduce VOC and/or NOX emissions considers not only numeric emission limits, but also design and equipment specifications, operational and throughput constraints and work practice standards. Each of these requirements can take different forms depending on the types of processes and emissions at a facility. For example, emission controls can include material content limits (pound (lb) per gallon (gal) material used) or emission limits (lb per hour (hr) limits, lb per day limits, and lb per month limits). These forms of controls are all considered suitable RACT requirements. Each source is different and not every form of an emission control is possible for every source. For example, in some cases, one or more of the various forms of short-term emission limits may be infeasible based on an evaluation of the RACT-subject facility. The commenter is also correct that EPA provided comments to PADEP when reviewing a draft permit that questioned the adequacy and enforceability of some of the proposed limits at Blommer, including the tpy limit, based on EPA guidance.

As determined by PADEP, the technically feasible control strategies for the nine sources subject to case-by-case RACT at Blommer were not economically feasible, except for the good operating practices option. Having concluded through the RACT evaluation process that the type of control options available for the Bloomer sources (upon which short-term limits could be imposed) were not technically or economically feasible, PADEP imposed good operating practices along with the requirement to install, maintain, and operate each source in accordance with manufacturer's specifications as the RACT requirements for these sources.⁵ Additionally, PADEP included source-specific recordkeeping and reporting requirements. Monthly recordkeeping requirements are required for calculating both VOC emissions and the amount of cocoa nibs processed.⁶

⁵ See PADEP Technical Review Memo, dated February 1, 2017, which is part of the record for this docket.

⁶ For example, see Blommer redacted Permit No. 46-00198, Section D, Source ID 105, Condition IV. #004, which is part of the record for this docket and will be incorporated by reference into the SIP.

In addition to these RACT requirements, PADEP also included in its SIP submittal a request to incorporate existing permitted annual VOC emission limits for the sources into the Pennsylvania SIP. Those annual limits were previously established for each source through a Best Available Technology (BAT) evaluation at the time each source was permitted, and ensure the SIP requires the conditions under which the PADEP analyzed RACT feasibility.⁷ In response to PADEP's request, EPA is approving those annual limits into the SIP in addition to the RACT requirements PADEP determined to be technically and economically feasible for Blommer. Because Pennsylvania analyzed what should be RACT under operating conditions that included annual limits from the Blommer permit, and PADEP included those requirements in its SIP submittal to us, EPA is incorporating those annual emission limits into the SIP not as RACT control limits but for the purpose of SIP strengthening. For these reasons, we consider the annual limits to be separate from RACT and believe the commenter's assertion is misplaced.⁸

⁷ See Alternative RACT Compliance Proposal, Blommer Chocolate Company, October 2016, which is part of the record for this docket. BAT is defined by Pennsylvania as “[e]quipment, devices, methods, or techniques as determined by the Department which will prevent, reduce, or control emissions of air contaminants to the maximum degree possible and which are available or may be made available.” 25 Pa. Code 121.1.

⁸ EPA notes that PADEP, in its RACT SIP revisions for the following facilities (The Boeing Co.; JW Aluminum Company; Ward Manufacturing, LLC; Wood-Mode Inc.; Texas Eastern Transmission, L.P.—Bernville; Texas Eastern Transmission, L.P.—Shermans Dale; Texas Eastern Transmission, L.P.—Perulack; Texas Eastern Transmission, L.P.—Grantville; Texas Eastern Transmission, L.P.—Bechtelsville; NRG Energy Center Paxton, LLC; Containment Solutions, Inc.; Jeraco Enterprises, Inc.;, and Foam Fabricators, Inc.) included some form of annual limits in the RACT II permits for those facilities. Even though a public comment was not submitted concerning the annual limits for these other facilities, EPA wishes to clarify that it is not approving any such annual limits as RACT control limits. Rather, because PADEP conducted its RACT analysis under operating conditions that included annual limits from the existing facility permit, and PADEP included those requirements in its SIP submittal to us, EPA is incorporating those annual limits into the SIP not as RACT control limits but for the purpose of SIP strengthening.

Comment 4: The commenter states that EPA is proposing case-by-case VOC RACT for the sources at Jeraco Enterprises, Inc. (Jeraco) to be in compliance with 40 CFR part 63 subparts WWWW and PPPP (National Emission Standards for Hazardous Air Pollutants (NESHAP) for Surface Coating of Plastic Parts and Products; NESHAP for Reinforced Plastic Composites Production). The commenter states that EPA does not quantify how much VOC emission reductions this might achieve. According to the commenter, VOC emissions cannot be controlled under this strategy because while some hazardous air pollutants (HAPs) are VOCs, not all VOCs are HAPs. Thus, the commenter asserts that EPA must evaluate what percentage of VOC reductions are being achieved through the control of HAPs at the sources at Jeraco, and from there, determine what additional controls are necessary to address non-HAP VOC emissions.

Response 4: EPA disagrees with the commenter's claim that case-by-case VOC RACT for the five sources at Jeraco is in compliance with 40 CFR part 63 subparts WWWW and PPPP. While the commenter is correct in stating that the facility is indeed subject to NESHAPs WWWW and PPPP, PADEP did not determine that the five sources could meet RACT requirements only by meeting the NESHAP requirements. EPA also disagrees with the commenter on the alleged inadequacy of PADEP's evaluation of VOC emissions at the facility. PADEP followed the RACT provisions of 25 Pa. Code 129.99 and evaluated the technical and economic feasibility of potential VOC control options for the five case-by-case sources at Jeraco. Through that evaluation, PADEP considered the control of all VOCs, not just VOCs that were HAPs. As PADEP evaluated potential control options for all VOCs, there was no need to evaluate what percentage of VOC control is achieved through the applicable NESHAP as suggested by the commenter because compliance with the NESHAP, which was an existing baseline condition at the facility, was not one of the control requirements considered for purposes of fulfilling RACT requirements.

The redacted version of the facility's permit (No. 49-00014), which is being incorporated by reference into the SIP and is available in the docket for this action, documents the RACT requirements to be incorporated into the SIP for this facility. These requirements are summarized in the TSD (under the heading “PADEP Conclusions”). The requirements for the Jeraco sources include, in most instances, specific VOC emission limitations, VOC content restrictions, material usage requirements, and detailed work practice requirements to minimize VOC emissions.⁹

⁹ For example, see Jeraco redacted Permit No. 49-00014, Section D, Source 102A, Conditions I. #003 and #004, IV. #006-#008, VI. #014-#019, and VII. #021.

Comment 5: The commenter asserts that for the boardmill line at Armstrong World Industries, Inc. (Armstrong), there is a discrepancy between what is reported as the source's exhaust temperature and the moisture content of that exhaust in the evaluation of activated carbon adsorption as a VOC control versus that which is reported for these measures during the evaluation of the catalytic oxidizer. The commenter demands that EPA disapprove PADEP's case-by-case RACT determination for Armstrong and requests re-evaluation of these technologies with the actual exhaust temperature and moisture content.

Response 5: EPA disagrees that there is a discrepancy in what is being reported as the boardmill line source's exhaust temperature and moisture content when evaluating the technical feasibility of the two VOC control strategies (activated carbon adsorption/zeolite adsorption and a catalytic oxidizer) as RACT. Actual exhaust temperatures and moisture content (i.e., saturation) for the two different exhaust streams (at the venturi scrubber inlet and outlet) have been provided by Armstrong. Stack test results for the boardmill line, pre and post-scrubber, with data on both exhaust temperature and moisture content are provided in Armstrong's RACT II proposal.¹⁰ Table 2-1 (scrubber inlet) of that report shows exhaust temperatures averaging 344 degrees Fahrenheit (°F) and 341 °F for the North and South locations respectively. Moisture content averages 36.6 percent (%) and 36.1%, respectively. Table 2-2 (scrubber outlet) of that report shows exhaust temperatures averaging 170 °F for both locations and moisture content averaging 37.9% and 37.8%, respectively, for both locations.

¹⁰ See TRC Environmental Corporation's Report for Armstrong World Industries, Marietta Boardmill Dryer, Marietta, Pennsylvania, which is part of the record for this docket.

These temperature and moisture content values were used consistently in Armstrong's RACT analysis. In the evaluation of the adsorption control technology, the company cites vendor information that states that adsorbents will not function in a saturated gas stream or function for a process gas with temperatures greater than 104 °F.¹¹ The same letter also explains that catalytic oxidation is not feasible at the scrubber exhausts because the temperature is too low and would have to be significantly increased to about 650 °F.

¹¹ See letter dated October 31, 2017 from Liberty Environmental, Inc. to PADEP, which is part of the record in this docket.

Comment 6: The commenter states that EPA is proposing case-by-case VOC RACT for the sources at Containment Solutions—Mt. Union Plant (Containment Solutions) to be in compliance with 40 CFR part 63 subpart WWWW (NESHAP for Reinforced Plastic Composites Production). The commenter states that EPA does not quantify how much VOC emission reductions this might achieve. The commenter asserts that EPA must evaluate what percentage of VOC reductions are being achieved through the control of HAPs at the layup source at Containment Solutions.

Response 6: The commenter is partially correct in that for the single source at Containment Solutions that is subject to a case-by-case VOC RACT determination (the layup area), PADEP has determined RACT to include, among other requirements, compliance with NESHAP WWWW. However, PADEP's RACT determination did not rely solely on compliance with NESHAP WWWW. EPA disagrees with the commenter on the alleged inadequacy of PADEP's evaluation of VOC emissions at the facility. PADEP followed the RACT provisions of 25 Pa. Code 129.99 to evaluate the technical and economic feasibility of potential VOC control options for the case-by-case source at Containment Solutions. Through that evaluation, PADEP considered the control of all VOCs, not just VOCs that were HAPs. As PADEP evaluated potential control options for all VOCs, there was no need to evaluate what percentage of VOC control is achieved through the applicable NESHAP as suggested by the commenter because compliance with the NESHAP was an existing baseline condition at the facility.

Other RACT requirements imposed by PADEP for this source also include a restriction on total resin use (shall not exceed 12,910,000 lbs per 12-month consecutive period) and specific work practice requirements (such as the use of a “tank fabrication” resin pouring layup method and a ban on the use of solvent-based resin cleanup solutions). PADEP also included specific recordkeeping and reporting requirements.¹²

¹² See Containment Solutions redacted Permit No. 31-05005, Section E, Group 06, RACT II Requirements for Source ID 101, Condition VII, which is being incorporated by reference into the SIP and is part of the record for this docket.

Comment 7: The commenter asserts that EPA does not specify the monitoring and recordkeeping being required as RACT for Containment Solutions.

Response 7: EPA disagrees with this comment. Specific monitoring and recordkeeping requirements associated with the RACT requirements for the layup area (Source ID 101) at Containment Solutions can be found in the redacted version of the facility's permit. Daily records, which inherently require monitoring, are required on resin identification, resin usage, VOC emissions and hours of operation.¹³

¹³ Id.

Comment 8: The commenter asserts that the PADEP economic benchmark for case-by-case RACT determinations is too low and not appropriate for all case-by-case evaluations, such as those for Texas Eastern Bechtelsville. The commenter states that an absolute cost threshold should not be used. The commenter goes on to discuss New Jersey's RACT program in comparison to Pennsylvania's, stating that New Jersey's program does not consider an absolute cost threshold, and the range of dollar per ton of NOX removed in the New Jersey evaluations allows for more control options to be considered economically feasible.

Response 8: EPA is aware that Pennsylvania considered cost-effectiveness levels ($/ton removed) that are lower than other states, such as New Jersey as the commenter notes, when developing the RACT II rule. However, EPA has not set a single cost, emission reduction, or cost-effectiveness figure to fully define cost-effectiveness in meeting the NOX or VOC RACT requirement. Therefore, states have the discretion to determine what costs are considered reasonable when establishing RACT for their sources. Each state must make and defend its own determination on how to weigh these values in establishing RACT.

As PADEP explained in its RACT II rulemaking, it did not establish a bright-line cost effectiveness threshold in determining what is economically reasonably for purposes of defining RACT.¹⁴ Instead, it developed as guidance a cost-effectiveness threshold of $2,800 per ton of NOX controlled and $5,500 per ton of VOC controlled for RACT. Pennsylvania also determined that even evaluating control technology options with an additional 25% margin, an upper bound cost-effectiveness threshold of $3,500 per ton NOX controlled and $7,000 per ton VOC controlled, would not affect the add-on control technology decisions required by RACT.¹⁵ Pennsylvania determined that these higher cost-effectiveness thresholds did not impact the determination of what add on control technology was feasible. Pennsylvania also reviewed examples of benchmarks used by other states: Wisconsin, $2,500 per ton NOX; Illinois, $2,500—$3,000 per ton NOx; Maryland, $3,500—$5,000 per ton NOX; Ohio, $5,000 per ton NOX; and New York, $5,000—$5,500 per ton NOX.¹⁶

¹⁴ 46 Pa. Bulletin 2036 (April 23, 2016).

¹⁵ Id.

¹⁶ PADEP Responses to Frequently Asked Questions, Final Rulemaking RACT Requirements for Major Sources of NOX and VOCs. October 20, 2016.

In its conditional approval of Pennsylvania's overall RACT II program, EPA found that PADEP's cost effectiveness thresholds are reasonable and reflect control levels achieved by the application and consideration of available control technologies, after considering both the economic and technological circumstances of Pennsylvania's own sources. See 84 FR 20274, 20286 (May 9, 2019).

Comment 9: The commenter requests that EPA and PADEP re-evaluate Texas Eastern Bechtelsville's RACT analysis, taking into account the NOX emission reductions achieved in practice by other existing sources in New Jersey and other states. The commenter cites a similar natural gas compressor station operated by Texas Eastern in New Jersey that has two identical turbines (two Dresser Clark DC-990 turbines) as those found at Texas Eastern Bechtelsville. The commenter states that under the New Jersey RACT program, in order to comply with the presumptive NOX RACT limit of 42 parts per million by volume, dry (ppmvd) at 15% oxygen (O2), the facility proposed replacement of the turbines with two new turbines that utilize low NOX emissions technology and will reduce NOX emissions from 172.5 ppmvd to 9 ppmvd at 15% O2 (or 25 tpy).

Response 9: The commenter is correct that the Texas Eastern Bechtelsville facility does appear to have one source (Source ID 101, Dresser Clark DC 990 turbine) which is similar if not identical to the two sources the commenter discusses that are allegedly found at the natural gas compressor station in New Jersey. However, under the Pennsylvania RACT program, Source ID 101 at Texas Eastern Bechtelsville will meet Pennsylvania's presumptive RACT requirements per 25 Pa. Code 129.97(g)(2)(iii) and 129(g)(2)(iv). It is not part of the facility's case-by-case RACT proposal and EPA is not taking any action on Source ID 101 in this rulemaking. The presumptive RACT determination for Source ID 101 is not part of this rulemaking action, thus the comment is outside the scope of this action.

Comment 10: The commenter asks EPA to re-evaluate the RACT determination for the two boilers at NRG Energy Center Paxton, LLC (NRG), specifically for the boilers when operating on No. 6 fuel oil. The commenter states that the proposed NOX short-term emission limit of 0.44 pound per million British thermal units (lb/MMBtu) is “entirely too high for a boiler of this size.” The commenter suggests that switching to No. 2 fuel oil and/or a permanent restriction on the use of No. 6 residential fuel oil to only emergency situations when natural gas is unavailable should be evaluated as RACT.

Response 10: EPA continues to find that Pennsylvania's RACT determination for Boiler Nos. 13 and 14 (Source IDs 032 and 033) at NRG is reasonable given the technological and economic feasibility analysis required by 25 Pa. Code Sections 129.92 and 129.99. Through the RACT analysis, PADEP reviewed the available control options with a reasonable potential for application at the source and determined that the short-term NOX emission limit of 0.44 lb/MMBtu for Boilers 13 and 14 when operating on No. 6 fuel oil is the appropriate RACT requirement.

Through the RACT II process, PADEP also added new requirements for Boilers 13 and 14. Under the new RACT II permit, each of the two boilers will now be subject to an annual NOX emission limit of 46 tpy, a limit that is in addition to the short-term RACT limit and strengthens the SIP. Furthermore, each boiler will now be subject to operating restrictions on fuel usage—No. 6 fuel oil limited to 1,533,300 gallons per year (gal/yr) and natural gas limited to 584,000,000 cubic feet/year.¹⁷ PADEP had added these requirements to reflect the fact that these are not full time operating units and impose the conditions upon which the feasibility analysis was conducted. Because Pennsylvania analyzed what should be RACT under operating conditions that included annual limits from the NRG permit, and PADEP included those requirements in its SIP submittal to us, EPA is incorporating those annual emission limits into the SIP not as RACT control limits but for the purpose of SIP strengthening.¹⁸

¹⁷ See NRG redacted permit No. 22-05005, Section E, Group 003, RACT II Requirements for Source IDs 032 and 033, which is being incorporated by reference into the SIP and is part of the record for this docket.

¹⁸ As a result of reviewing PADEP's RACT II determination for NRG in response to this comment, EPA has also updated its TSD for this facility to clarify its RACT I status. The updated TSD has been added to the docket of this rulemaking.

Comment 11: The commenter suggests that EPA should disapprove the short-term NOX emission limit of 116 parts per million (ppm) at Texas Eastern Grantville because the limit is too high. The commenter cites stack test results in which the applicable sources were able to maintain a NOX emission rate of 84.3 ppm with the highest run being 86.8 ppm. The commenter demands that EPA send the RACT determination back to the state for a re-evaluation showing the lowest achievable emission limit for the sources.

Response 11: EPA disagrees with the commenter on the stack test results referenced in the comment. The values included in the comment refer to stack test results for the facility's Dresser Clark DC 990 turbine (Source ID 032), which is subject to presumptive RACT requirements at 25 Pa. Code 129.97(g)(2)(iii) and (iv).¹⁹ The test results do not refer to the Westinghouse W52 turbines (Source IDs 033 and 034), which are subject to this case-by-case RACT rulemaking.

¹⁹ See letter from Spectra Energy Partners to PADEP, dated October 21, 2016 (Re: Request for Compliance Demonstration Waiver), which is part of the record for this docket.

The two Westinghouse W52 turbines (Source IDs 033 and 034) have a short-term NOX limit of 116 ppm. Assuming the commenter was objecting to the 116 ppm short-term NOX limit for the Westinghouse turbines, EPA continues to find that Pennsylvania's RACT determinations for those turbines are reasonable given the analysis of technological and economic feasibility, which is part of the record for this docket, and that the short-term NOX emission limit of 116 ppm for these turbines is appropriate. As part of the case-by-case NOX RACT analysis, the facility evaluated the technical and, where appropriate, economic feasibility of available control strategies for the two Westinghouse turbines and determined that there were no reasonably available control technologies that were technically or economically feasible for the conditions at this facility. Technological and economic feasibility are how EPA analyzes what is RACT for purposes of implementation of the ozone NAAQS—the standard is not lowest achievable emission rates, as suggested by the commenter.²⁰

²⁰ Since the 1970's, EPA has consistently defined “RACT” as the lowest emission limit that a particular source is capable of meeting by the application of the control technology that is reasonably available considering technological and economic feasibility. See December 9, 1976 memorandum from Roger Strelow, Assistant Administrator for Air and Waste Management, to Regional Administrators, “Guidance for Determining Acceptability of SIP Regulations in Non-Attainment Areas,” and 44 FR 53762 (September 17, 1979).

PADEP imposed, as a RACT II requirement, a continuation of the current RACT I short-term NOX limit of 116 ppmvd at 15% O2 at all times. This limit is based on a statistical analysis of historical stack test results (for Texas Eastern's entire fleet of Westinghouse W52 turbines in Pennsylvania). The analysis showed that lowering the short-term emission rate without the availability of any additional feasible controls would present a significant compliance risk.²¹ Ultimately, Pennsylvania agreed with the facility's evaluation of feasible controls and that case-by-case NOX RACT short-term emission limits cannot be based on individual stack test results alone in this instance.

²¹ See letter dated October 24, 2017 from Enbridge to PADEP, which is part of the record for this docket.

Comment 12: The commenter suggests that EPA should disapprove the short-term NOX emission limit of 120 ppm at Texas Eastern Perulack because the limit is too high. The commenter cites stack test results in which the applicable source was able to maintain a NOX emission rate of 66.5 ppm with the highest run being 67.5 ppm. The commenter demands that EPA send the RACT determination back to the state for a re-evaluation showing the lowest achievable emission limit for the source.

Response 12: EPA continues to find that Pennsylvania's RACT determination for the General Electric Frame 5 turbine at Texas Eastern Perulack (Source ID 037) is reasonable given the analysis of technological and economic feasibility, which is part of the record for this docket, and that the short-term NOX emission limit of 120 ppm for these turbines is appropriate. As part of the case-by-case NOX RACT analysis, the facility evaluated the technical and, where appropriate, economic feasibility of available control strategies for the General Electric Frame 5 turbine and determined that there were no reasonably available control technologies that were technically or economically feasible for the conditions at this facility. Technological and economic feasibility are how EPA analyzes what is RACT for purposes of implementation of the ozone NAAQS—the standard is not lowest achievable emission rates, as suggested by the commenter.²²

²² See footnote 20 of this preamble.

PADEP imposed, as a RACT II requirement, a continuation of the current RACT I short-term NOX limit of 120 ppmvd at 15% O2 at all times. This limit is based on a statistical analysis of historical stack test results (for Texas Eastern's entire fleet of General Electric Frame 5 turbines in Pennsylvania). The analysis showed that lowering the short-term emission rate without the availability of any additional feasible controls would present a significant compliance risk.²³ Ultimately, Pennsylvania agreed with the facility's evaluation of feasible controls and that case-by-case NOX RACT short-term emission limits cannot be based on individual stack test results alone in this instance.

²³ See letter dated October 24, 2017 from Enbridge to PADEP, which is part of the record for this docket.

Comment 13: The commenter suggests that EPA should disapprove the short-term NOX emission limit of 120 ppm at Texas Eastern Shermans Dale because the limit is too high. The commenter cites stack test results in which the applicable sources were able to maintain a NOX emission rate of no greater than 94.8 ppm and 107.7 ppm, respectively. The commenter demands that EPA disapprove the RACT determination and send it back to the state for a re-evaluation showing the lowest achievable emission limit for the sources.

Response 13: EPA continues to find that Pennsylvania's RACT determination for the two General Electric Frame 5 turbines at Texas Eastern Shermans Dale (Source IDs 031 and 032) are reasonable given the analysis of technological and economic feasibility, which is part of the record for this docket, and that the short-term NOX emission limit of 120 ppm for these turbines is appropriate. As part of the case-by-case NOX RACT analysis, the facility evaluated the technical and, where appropriate, economic feasibility of available control strategies for the two General Electric turbines and determined that there were no reasonably available control technologies that were technically and economically feasible for the conditions at this facility. Technological and economic feasibility are how EPA analyzes what is RACT for purposes of implementation of the ozone NAAQS—the standard is not lowest achievable emission rates, as suggested by the commenter.²⁴

²⁴ See footnote 20 of this preamble.

PADEP imposed, as a RACT II requirement, a continuation of the current RACT I short-term NOX limit of 120 ppmvd at 15% O2 at all times on each turbine. This limit is based on a statistical analysis of historical stack test results (for Texas Eastern's entire fleet of General Electric Frame 5 turbines in Pennsylvania). The analysis showed that lowering the short-term emission rate without the availability of any additional feasible controls would present a significant compliance risk.²⁵ Ultimately, Pennsylvania agreed with the facility's evaluation of feasible controls and that case-by-case NOX RACT short-term emission limits cannot be based on individual stack test results alone in this instance.

²⁵ See letter dated October 24, 2017 from Enbridge to PADEP, which is part of the record for this docket.

Comment 14: The commenter asks EPA to clarify the potential to emit (PTE) supporting documentation for Texas Eastern Shermans Dale, citing footers for Tables A-1 and A-2 of Attachment 4 of the source's application, which cite a different Texas Eastern compressor station (Bernville). The commenter further states that the tables are identical to those included with the RACT determination for Texas Eastern Bernville. The commenter asks EPA to supplement the record with the correct PTE in order to properly determine cost effectiveness and RACT for the sources at Texas Eastern Shermans Dale.

Response 14: EPA acknowledges that Table A-1 in Attachment 4 of the facility's RACT II proposal (submitted by Trinity Consultants), which is included in the record for this docket, contains a footer that mistakenly references the Texas Eastern Bernville facility, not the Texas Eastern Shermans Dale facility. Table A-1 in the Shermans Dale supporting documentation provides the “Hourly and Annual Emission Estimates” for the gas-fired General Electric turbine, model M5241. As the commenter noted, Table A-1 in Attachment 4 in the RACT II Proposal for the Bernville station contains the same information as in Table A-1 for the Shermans Dale station. This is accurate and appropriate since both tables provide emission estimates for the same type of General Electric M5241 model turbine, which is used at each facility. Therefore, the mistaken reference in Table A-1 in the Shermans Dale proposal is just a typographical error and the PTE data is correct. There is no need to supplement the record. Finally, EPA disagrees with the commenter regarding Table A-2 in Attachment 4. The footer associated with Table A-2 properly references the Texas Eastern Shermans Dale facility.

Comment 15: The commenter states that the presses, which vent within the building, and the autoclaves should be evaluated for RACT at Boeing. The commenter references statements in Boeing's RACT analysis that allegedly state that it is seeking a case-by-case RACT for the autoclaves and disagrees with Boeing's alleged claim that only the autoclaves are subject to case-by-case RACT because no odors from the presses have been detected by the workers.

Response 15: While the commenter's concern addresses the autoclaves and presses at the Boeing facility, it is important to note that in the present action, EPA is only approving the case-by-case RACT determination for Source ID 251, which is a Composite Manufacturing Area. It is the only emission unit for which Boeing has requested such a source-specific determination and the only case-by-case RACT determination for this facility made by PADEP. There is no request for a case-by-case RACT determination for the autoclaves or the presses. The autoclaves are subject to RACT pursuant to 25 Pa. Code 129.97(c)(3).

Comment 16: The commenter stated that an improper economic feasibility analysis was conducted for Exelon because a 10% interest rate rather than the recommended 3% to 7% interest rate was used.

Response 16: The current economic feasibility analysis produces cost per ton calculations over $21,000/ton of pollutant removed. The interest rate is one factor in a complex, multi-factor cost analysis. A change in interest rate from 10% to 3%-7% would not reduce the cost per ton figure sufficiently to make add-on controls economically feasible for the Exelon boilers. The RACT requirement for the two boilers at Exelon when burning landfill gas (LFG) is 0.1 lbs NOX/MMBtu, which is comparable to Pennsylvania's presumptive RACT requirements when burning natural gas, and the operation of a continuous emissions monitoring system (CEMS). Therefore, although EPA agrees with the commenter about the suitability of the interest rate used in the analysis, a lower interest rate does not change the final conclusions of the analysis and EPA is finalizing the proposed RACT requirements for Exelon.

Comment 17: The commenter stated that the generic recordkeeping provisions of 25 Pa. Code 129.100 are insufficient for Exelon. The commenter states that the records must include sufficient data and calculations to demonstrate that the requirements of 25 Pa. Code 129.96-129.99, as applicable, are met. Specifically, the commenter referred to EPA's response to the final approval of the Pennsylvania rule, which stated that 129.99(d)(6) requires sources to include such methods for demonstrating compliance and that EPA would evaluate these when they are submitted for SIP approval.

Response 17: EPA reviewed and evaluated the specific compliance demonstration provisions imposed by PADEP for the Exelon case-by-case RACT determination under 129.99(d)(6). Specific monitoring and recordkeeping provisions are contained in both the Exelon RACT I and RACT II permits that are incorporated or will be incorporated into the SIP.²⁶ For example, both permits require a CEMS, which monitors and records the required emissions information on a continuous basis. More specific recordkeeping requirements on fuel usage are also contained and will be retained in the SIP via the incorporated RACT I permit.

²⁶ Exelon's RACT I permit (formerly PECO Energy—USX Fairless Works Powerhouse), Permit No. OP-09-0066, issued December 31, 1998 and revised April 6, 1999, was approved by EPA into the SIP on December 15, 2000. 40 CFR 52.2020(c)(143)(i)(B)(15). Incorporation of Exelon's redacted RACT II permit is the subject of this rulemaking. The monitoring and recordkeeping requirements in the RACT I permit are being retained in the SIP.

Comment 18: The commenter stated that EPA and PADEP did not consider burner replacement as a control option for Exelon and claims that dual-fuel fired (vs. single-fuel fired) burners should have specifically been considered as a technically and economically feasible option.

Response 18: EPA continues to find that Pennsylvania's RACT determination for the boilers (Source IDs 044 and 045) at Exelon—Fairless Hills is reasonable given the technological and economic feasibility analysis required by 25 Pa. Code Sections 129.92 and 129.99. Through the RACT analysis, PADEP reviewed the available control options with a reasonable potential for application at the sources and determined that the short-term NOX emission limit of 0.10 lb/MMBtu for these boilers when burning LFG is the appropriate RACT requirement. The case-by-case RACT determination for these boilers is only required when they are burning LFG. The sources must comply with Pennsylvania's presumptive RACT II requirements at 25 Pa. Code 129.97(g)(1), respectively, when burning natural gas or No. 4 residual oil. With the use of low NOX burners (LNBs), Exelon achieves a RACT NOX emission rate when burning LFG equivalent to the NOX emission rate in Pennsylvania's presumptive RACT requirements applicable to burning natural gas.

Comment 19: The commenter claims that without knowing the exit flue gas temperature, it is not possible to discount selective non-catalytic reduction (SNCR) as an option for the boilers at Exelon and that SNCR should not have been discounted as a feasible option for the boilers.

Response 19: As described in the supporting documentation for Exelon's RACT determination, which is part of the record for this docket, SNCR was determined to be technically infeasible when burning LFG for several reasons, including the high exhaust temperatures required by SNCR. Burning LFG naturally reduces combustion temperatures, and this lower combustion temperature reduces NOX conversions when using SNCR, making the control technology less effective for this use. Further, EPA has not identified any application of SNCR to boilers when burning LFG. When using natural gas or No. 4 residual oil, these Exelon boilers will be required to meet the presumptive RACT requirements at 25 Pa. Code 129.97(g)(1)(i) and (ii), respectively.

Comment 20: The commenter stated that EPA has numerous guidance policies requiring short-term limits for RACT and has informed PADEP of these policies. Therefore, the commenter claims that an annual emissions cap for First Quality Tissue as RACT is insufficient.

Response 20: See Response 3, of this preamble, for a discussion of EPA policy on RACT and short-term limits. As explained there, the establishment of case-by-case RACT requirements to reduce VOC and/or NOX emissions considers not only numeric emission limits, but also design and equipment specifications, operational and throughput constraints and work practice standards. Each of these requirements can take different forms depending on the types of processes and emissions at a facility.

For the First Quality Tissue emission units subject to case-by-case RACT, PADEP's RACT determination includes numerous continuous limits on the VOC content and usage rate of materials used at the facility. For example, materials used in the Adhesive Operation (Source ID 108) are restricted in VOC Content and usage rate as follows: Laminating Glue—0.0005 lb/gal per 4,000 gallons per day (gpd); Transfer Glue—0.010 lb/gal per 300 gpd; and Core Glue—0.008 lb/gal per 700 gpd.²⁷ In addition to these continuous limits, PADEP also included in its RACT II permit annual VOC limits for various units. These annual limits are existing legal requirements at the facility. Because Pennsylvania analyzed what should be RACT under operating conditions that included annual limits from the First Quality Tissue permit, and PADEP included those requirements in its SIP submittal to us, EPA is incorporating those annual emission limits into the SIP not as RACT control limits but for the purpose of SIP strengthening. For these reasons, we consider the annual limits to be separate from RACT and believe the commenter's assertion is misplaced.

²⁷ See, for example, First Quality Tissue's redacted Permit No. 18-00030, Section D., Source ID P102, I. Condition #003; Source ID P103, I. Conditions #001 and #003; Source ID P106, I. Condition #001; Source ID P108, VI. Condition #004; and Source ID P110, VI. Condition #006, which will be incorporated by reference into the SIP and is part of the record for this docket.

In preparing the response to this comment, EPA noticed that the First Quality Tissue RACT II permit was improperly redacted in that it did not contain all of the requirements imposed by PADEP's RACT determination. Additional RACT provisions located in the First Quality Tissue Permit No. 18099939, Section C, Conditions #007, 026, 027 and 028 were erroneously redacted. Through a May 27, 2020 email from Mr. Viren Trivedi, PADEP, to Ms. Cristina Fernandez, EPA, PADEP has now corrected the First Quality Tissue RACT II permit to include these provisions and this corrected version will be incorporated into the Pennsylvania SIP. The corrected RACT II permit has been added to the docket of this rulemaking.

Comment 21: Two commenters state that EPA should not allow for the consideration of plant shutdown as part of the economic feasibility analysis for JW Aluminum. They claim that eliminating such consideration would likely make a number of control technologies economically feasible at Mills 1 and/or 2. The commenters conclude that EPA should disapprove the permit and require JW Aluminum to recalculate the costs of installing pollution control devices without considering shutdown.

One of the commenters also states that the economic feasibility analysis for JW Aluminum improperly included state taxes, property taxes, duties, value added tax (VAT), plant shutdown, and inflated interest rates. The commenter concludes that EPA should disapprove the permit and require JW Aluminum to recalculate the costs of installing pollution control devices without these improper factors.

One commenter states that the use of 12% interest rate in the JW Aluminum cost analysis does not reflect current Fed Funds interest rates, which are available from https://www.federalreserve.gov/monetarypolicy/openmarket.htm, and now vary between 0 and 0.25%. Furthermore, the commenter states that EPA's guidance indicates it is feasible to use 3-7% interest rates where firm-specific rates or prime rates are not available. However, the commenter further summarizes that the EPA guidance also states that the 3% to 7% interest is not appropriate when assessing private costs by firms making investments. Without making these changes, EPA should return the permit to PADEP and require a recalculation of costs for the JW Aluminum RACT analysis.

Response 21: EPA agrees with the commenter that the values used for certain factors such as interest rate, taxes, and plant shutdown in the cost analysis may not have been justified in this case. These values are among many other values used in a complex, multi-factor cost analysis. However, even with adjustments to address questionable interest rates, taxes, and plant shutdown, the lowest cost/ton numbers to reduce emissions from these sources are still more than $7,600/ton, a level that does not change the conclusion about the economic feasibility of controls for the rolling mills. Therefore, although EPA agrees with the commenter that the values used for certain factors in the economic feasibility analysis may not have been appropriate, the adjustment of such factors does not change the conclusions of the analysis.

Comment 22: The commenter states that the generic recordkeeping provisions of 25 Pa. Code 129.100 are insufficient for Cherokee. The commenter states that the records must include sufficient data and calculations to demonstrate that the requirements of 25 Pa. Code 129.96-129.99 are met. Specifically, the commenter referred to EPA's response to the final approval of the Pennsylvania rule, which stated that 25 Pa. Code 129.99(d)(6) requires sources to include such methods for demonstrating compliance and that EPA would evaluate these when they are submitted for SIP approval.

Response 22: EPA reviewed and evaluated the specific compliance determination provisions imposed by PADEP for the Cherokee case-by-case RACT determination under 129.99(d)(6). There are specific recordkeeping provisions for Source ID 101 in Cherokee's. The records needed to support the calculations necessary to verify compliance with the VOC emission limitation may include emissions data and information on emission modeling method and emission factors.²⁸

²⁸ See Cherokee's redacted RACT Permit No. 49-00007, Section D. Source ID 101, IV. Condition #004, which will be incorporated into the SIP with this rulemaking and is part of the record in this docket.

Comment 23: The commenter states that EPA must require that the 95% reduction from NESHAP subpart GGG is RACT for Cherokee because the annual emission cap alone is not sufficient for RACT purposes. The commenter further states that an annual emissions cap is not sufficient as EPA guidance and instruction to Pennsylvania has previously stated that RACT should consist of short-term limits such as daily averages.

Response 23: See Response 3, of this preamble, for a discussion of EPA policy on RACT and short-term limits. As explained in that response, the establishment of case-by-case RACT requirements to reduce VOC and/or NOX emissions under EPA policy considers not only numeric emission limits, but also design and equipment specifications, operational and throughput constraints, and work practice standards. Each of these requirements can take different forms depending on the types of processes and emissions at a facility.

Cherokee's Source 101 is a collection of covered and uncovered tanks in the wastewater treatment plant and is already required to comply with 40 CFR part 63 subpart GGG, including the 95% reduction requirement. The 95% reduction requirement applies to all components of Source 101 and has reduced the potential VOC emissions from this source from 146 tpy to 15 tpy. Compliance with the 95% reduction requirement of subpart GGG and the VOC emissions limit of 15 tpy are existing legal requirements for this source.²⁹

²⁹ See Cherokee title V Permit No. 49-00007, Section D., Source ID 101, I. Condition #01 and VII. Condition #013, which is part of the record for this docket.

As part of the case-by-case RACT analysis required under 25 Pa. Code 129.99, the facility evaluated the technical and, where appropriate, economic feasibility of available controls on the various individual components of Source 101. Tank covers were found to be feasible for certain tanks and are now RACT requirements; however, covers were found to be technically or economically infeasible for certain other tanks. PADEP's RACT determination for Source 101 also requires that biodegradation is maximized, which requires ambient exposure of volatiles, which in turn precludes the use of a tank cover in certain cases because the processes require tank access for mixing and aeration. Having concluded through the RACT evaluation process that the type of control options available for certain tanks (upon which short-term limits could be imposed) were not technically or economically feasible, PADEP imposed good operating practices along with the requirement to e.g., to maximize biodegradation of volatiles. Overall, RACT for Source 101 includes tank covers, maximization of biodegradation, and good operating practices.³⁰

³⁰ See Cherokee redacted Permit No. 49-00007, Section D., Source ID 101, VI. Conditions #010 and #011 and VII. Condition #014, which is part of the record for this docket and will be incorporated by reference into the SIP. See also, footnote 28 of this preamble.

In addition to these RACT requirements, PADEP has also included the existing annual VOC emissions cap referenced by the commenter in its redacted RACT II permit. Because Pennsylvania analyzed what should be RACT under operating conditions that included annual limits from the Cherokee permit, and PADEP included those requirements in its SIP submittal to us, EPA is incorporating those annual emission limits into the SIP not as RACT control limits but for the purpose of SIP strengthening. For these reasons, we consider the annual limits to be separate from RACT and believe the commenter's assertion is misplaced.

Comment 24: The commenter states that EPA should disapprove the Texas Eastern Bernville case-by-case RACT determination because the NOX emission limits proposed for RACT are not the lowest achievable emission rates for the subject sources and do not reflect their actual emissions. The commenter notes that the NOX emission rates for Source 101 and 102 are identified in the documentation as 115.75 lbs/hr and 110.29 lbs/hr, respectively, while RACT limit being proposed is 120 lb/hr.

Response 24: Initially, EPA needs to clarify certain information referenced by the commenter. The NOX emission rates found in the documentation referenced by the commenter were provided by the manufacturer. They are generic rates; not measured NOX emission rates at the Texas Eastern Bernville sources. Also, RACT for Source IDs 101 and 102 is being proposed at 120 ppm at 15% O2 and not 120 lbs NOX/hr, as apparently assumed by the commenter.

EPA also continues to find that Pennsylvania's RACT determination for the two General Electric Frame 5 turbines at Texas Eastern Bernville (Source IDs 101 and 102) are reasonable given the analysis of technological and economic feasibility, which is part of the record for this docket, and that the short-term NOX emission limit of 120 ppm for these turbines is appropriate. As part of the case-by-case NOX RACT analysis, the facility evaluated the technical and, where appropriate, economic feasibility of available control strategies for the two General Electric turbines and determined that there were no reasonably available control technologies that were technically and economically feasible for the conditions at this facility. Technological and economic feasibility are how EPA analyzes what is RACT for purposes of implementation of the ozone NAAQS—the standard is not lowest achievable emission rates, as suggested by the commenter.³¹

³¹ See footnote 20 of this preamble.

PADEP imposed, as a RACT II requirement, a short-term NOX limit of 120 ppmvd at 15% O2 at all times on each turbine. This limit is based on a statistical analysis of historical stack test results (for Texas Eastern's entire fleet of General Electric Frame 5 turbines in Pennsylvania). The analysis showed that lowering the short-term emission rate without the availability of any additional feasible controls would present a significant compliance risk.³² Ultimately, Pennsylvania agreed with the facility's evaluation of feasible controls and that case-by-case NOX RACT short-term emission limits cannot be based on individual stack test results alone in this instance.

³² See letter dated October 24, 2017 from Enbridge to PADEP, which is part of the record for this docket.

Comment 25: The commenter states that the compliance date required under RACT is January 1, 2017 and claims that approval of the case-by-case RACT for Texas Eastern Bernville Sources 101 and 102 includes an impermissible compliance date extension until January 1, 2024.

Response 25: The two turbines at issue would generally be subject to the presumptive RACT requirements specified in 25 Pa. Code 129.97(g)(2), but the source has demonstrated that the presumptive RACT limits are not in fact economically and technologically achievable for these two turbines. Accordingly, the source submitted, PADEP approved, and EPA is now agreeing that these two turbines will have a source-specific RACT determination, and accompanying limits, for purposes of implementation of the 1997 and 2008 ozone NAAQS.

Texas Eastern evaluated the turbines under the source-specific RACT provisions as authorized by 25 Pa. Code 129.97(a). Following the case-by-case requirements of 25 Pa. Code 129.99, Texas Eastern evaluated the technical and economic feasibility of installing controls on the Frame 5 turbines to reduce NOX emissions as required by RACT. Texas Eastern determined that there were no technically and economically feasible controls to implement on the turbines. PADEP reviewed Texas Eastern's RACT II analysis on control measures and determined that the RACT II requirements were a continuation of the existing RACT I emission limits. PADEP also included in its RACT II permit, emission, fuel usage, and operating hour caps that were utilized in the economic feasibility analysis. As explained in our proposal document and TSD provided in the docket, we agree with PADEP's determination. Source IDs 101 and 102 at Texas Eastern's Bernville facility are subject to RACT II requirements established through the source-specific alternative provisions of 25 Pa. Code 129.99. Those requirements currently apply to the turbines through Texas Eastern Bernville's title V permit, which is part of the record for this docket and was effective on March 16, 2018.³³ The redacted version of that permit includes the RACT requirements and is being incorporated into the SIP through this action.

³³ See Texas Eastern Bernville's title V permit No. 06-05033, Section E., Group No. SG05, Sources 101 and 102, VII.

In the course of its RACT analysis, Texas Eastern determined that it would replace these turbines as part of a major modernization project on the Texas Eastern pipeline. Texas Eastern indicated that the turbines would be replaced with turbine(s) resulting in a reduction of the facility's PTE NOX of at least 290 tpy more than the presumptive RACT limit. However, because the modernization project would be implemented statewide, Texas Eastern indicated that it would be a seven-year project with a completion date of January 1, 2024. As described by Texas Eastern, the turbine replacements are part of an extensive modernization project across multiple facilities in Pennsylvania that requires extensive engineering and scheduling considerations as the operation of the compressor stations are inherently dependent on each other—for example, to maintain appropriate line pressures throughout the pipeline.³⁴ Accordingly, Texas Eastern said that the replacement of the turbines could not occur until January 1, 2024, a date that, as commenter notes, exceeds the implementation deadline for RACT for purposes of the 1997 and 2008 ozone NAAQS.

³⁴ See RACT II Proposal, Texas Eastern Transmission, L.P., Bernville, PA, prepared by Trinity Consultants, October 2016, which is part of the record for this docket.

Because Texas Eastern considered the replacement of these turbines by January 1, 2024 in their RACT proposal to PADEP, and PADEP included that requirement in their SIP submittal to us, we are approving that requirement into the SIP solely for the purposes of SIP strengthening to ensure that the conditions utilized in the economic feasibility analysis are implemented and enforceable. Because the turbine replacement is not a RACT-level requirement for this source, commenter's allegation that EPA is improperly extending the RACT implementation deadline beyond statutory and regulatory requirements is misplaced.

Comment 26: The commenter states that Texas Eastern Bernville's RACT evaluation is improper and should be cost effective. The commenter argues that EPA should not grant this RACT permit for Texas Eastern Bernville until full and complete environmental studies have been conducted and completed on the proposed site as soon as possible.

Response 26: Texas Eastern Bernville is an existing, not a proposed, source. PADEP and EPA have evaluated the subject sources at the Bernville facility under the requirements of the RACT regulations, which includes an analysis of potential controls for technical and economic feasibility.³⁵ The RACT analysis does not require an environmental study of the site.

³⁵ See RACT II Proposal, Texas Eastern Transmission, L.P., Bernville, PA, prepared by Trinity Consultants, October 2016, which is part of the record for this docket.

Comment 27: The commenter states that EPA should reevaluate the cost analysis for Wood-Mode's lumber drying sources as the analysis of the thermal oxidizer inappropriately used a 10% interest rate and considered state and property taxes. The commenter suggests that these factors may change the feasibility of the thermal oxidizer and concludes that EPA should return the permit to PADEP and disapprove the current submittal.

Response 27: Wood-Mode's lumber drying sources (Source ID 154) are not being evaluated under the case-by-case RACT provisions and are exempt pursuant to 25 Pa. Code 129.97(c)(2). Therefore, they are not relevant to the current rulemaking action. Only the hand-wipe staining operations (Source IDs 143 and 146) at Wood-Mode are being evaluated for case-by-case RACT determinations. The RACT analysis for the hand-wipe staining operations included an assessment of a thermal oxidizer. EPA agrees with the commenter that the values used for certain factors such as interest rate and taxes in the cost analysis for these sources may not have been justified in this case. However, the economic feasibility of the thermal oxidizer for Source IDs 143 and 146, which utilize materials with low VOC concentrations, is estimated at over $20,000/ton and over $30,000/ton, respectively. Even with adjustments to address questionable interest rates and taxes, the cost/ton numbers to reduce emissions from these sources remain elevated and do not change the conclusion about the economic feasibility of controls for the hand-wiped stain sources.

Comment 28: The commenter states that the newspaper proof of publication for Ward is unreadable because of a redaction on the page. Because of this, the commenter concludes that proof of publication for Ward Manufacturing was not provided and such proof of publication must be resubmitted.

Response 28: The commenter's concerns about an adequate proof of publication relate to a redacted version of the proof of publication on the first page in the supporting materials for Ward Manufacturing (Ward), which is contained in the docket. That page includes a partially obscured copy of the newspaper's proof of publication of PADEP's notice of its RACT determination for Ward. However, the second page of the supporting materials for Ward contains a second view of the proof of publication along with the full version of the actual newspaper notice. For these reasons, EPA reasonably determined that PADEP had met its obligation to provide proof of publication of its public notice for Ward.

Comment 29: The commenter states that Source 149A at Ward Manufacturing did not go through a RACT analysis as required and, instead, is inappropriately permitted to comply with 129.97. The commenter argues that Source 149A has a PTE of 5 tpy and is ineligible for the presumptive RACT requirements of 25 Pa. Code 129.97(c)(2).

Response 29: Source 149A, which is a grouping of individual emission units (coring machines), is subject to the presumptive RACT requirements at 25 Pa. Code 129.97(c)(2) due to enforceable permit conditions that limit the potential VOC emissions for each coring machine source in this overall grouping.³⁶ The Pennsylvania regulations at 25 Pa. Code 121.1 define potential emissions as “[t]he maximum capacity of a source to emit a pollutant under its physical and operational design. Any physical or operational limitation on the capacity of the source to emit a pollutant, including air pollution control equipment and limitations on hours of operation or on the type or amount of material combusted, stored or processed shall be treated as part of the design if the limitation or the effect it would have on emissions is Federally enforceable or legally and practicably enforceable by an operating permit condition. The term does not include secondary emission from an offsite facility.” Therefore, with an enforceable emissions limitation on each individual emission unit within the grouping under Source 149A, no case-by-case RACT analysis is required for this source. Source 149A meets the presumptive RACT applicability at 25 Pa. Code 129.97(c)(2) based on using lower VOC content coatings that allow these emission units to meet their potential to emit emission caps.

³⁶ See Ward's title V permit No. 59-00004, Section D. Source ID 149A, I. Condition #003, which is part of the record for this docket.

Comment 30: The commenter questions EPA's approval of annual RACT limits for Resilite. The commenter asserts that EPA's guidance requires shorter term RACT limits with no greater than 30-day rolling averages.

Response 30: As explained in response to Comment 3, of this preamble, the establishment of case-by-case RACT requirements to reduce VOC and/or NOX emissions considers not only numeric emission limits, but also design and equipment specifications, operational and throughput constraints and work practice standards. Each of these requirements can take different forms depending on the types of processes and emissions at a facility. For example, emission controls can include material content limits or emission limits. Short-term emission limits are typically expressed as lb/hr or lb/day limits. VOC material content limits, on the other hand, are typically expressed as lb/gal material used and are considered continuous controls in that they ensure that there is continuous VOC reduction by limiting the types of materials that can be used. Similarly, operational or throughput constraints are continuous controls on VOC/NOX emissions. Therefore, these forms of controls are all considered suitable RACT requirements. Each source is different and not every form of an emission control is economically or technically feasible for every source. In some cases, one or more of the various forms of short-term emission limits may be infeasible based on an evaluation of the RACT-subject facility.

Source IDs 106, 201, and 202 at Resilite are subject to the case-by-case RACT analysis prescribed by 25 Pa. Code 129.99. As part of the case-by-case NOX RACT analysis, the facility evaluated the technical and, where appropriate, economic feasibility of available controls. A material change of solvent blends was determined to be technically and economically feasible as RACT with new, lower lb/gal material limits. Through the current RACT analysis, the RACT I VOC limit of 6.83 lbs/gal (minus water) for mat coating material was reduced to 4.97 lbs/gal.³⁷ It should also be noted that the adhesives or sealants applied at Source 106 are now limited to 2.1 lb/gal per 25 Pa. Code 129.77, not the RACT I limit of 5.98 lbs/gal.³⁸ In addition, PADEP is also retaining as RACT requirements work practices such as limiting what equipment can be cleaned with VOC-containing materials and restrictions on how spray guns are cleaned that were established as part of RACT I.³⁹

³⁷ See Resilite redacted Permit No. 49-00004, Section D, Source ID 106, I. Condition #001, which is part of the record for this docket and will be incorporated by reference into the SIP with this rule.

³⁸ See Resilite title V Permit No. 49-00004, Section D, Source ID 106, VII. Condition #008, which is part of the record for this docket, and 80 FR 36482 (June 25, 2015).

³⁹ See Resilite redacted Permit No. 49-00004, Section D, Source ID 106, VI. Condition #005, and Section D, Source ID 202, VI. Condition #004, which is part of the record for this docket and will be incorporated by reference into the SIP with this rule.

PADEP also established annual emission limits for each source that are derived from the VOC-content of the materials used at that source. In doing so, PADEP eliminated a former annual emissions cap for the facility. Because Pennsylvania developed annual limits for the Resilite permit, and PADEP included those requirements in its SIP submittal to us, EPA is incorporating those annual emission limits into the SIP not as RACT control limits but for the purpose of SIP strengthening. For these reasons, we consider the annual limits to be separate from RACT and believe the commenter's assertion is misplaced.

Comment 31: The commenter questions the assumed capture efficiency for the molding process in Foam Fabricator's cost effectiveness analysis. The commenter asserts that the cost effectiveness of controls on the molding operations should be reevaluated with updated capture efficiency to find controls effective.

Response 31: PADEP and EPA evaluated the sources at Foam Fabricators subject to the RACT case-by-case requirements set forth in 25 Pa. Code 129.99. The RACT analysis determined that the three technically feasible control scenarios for the molding operations were economically infeasible, with the cost to remove VOCs ranging from $15,702/ton to $23,699/ton.⁴⁰ Capture efficiency is one factor in a complex, multi-factor cost analysis. EPA has examined PADEP's cost effectiveness analysis and finds that an updated evaluation with an increased capture efficiency would not impact the cost analysis enough to change the RACT determination.

⁴⁰ See RACT 2 Applicability and Compliance Evaluation for Foam Fabricators, Inc., Bloomsburg, Pennsylvania, January 2017, which is part of the record for this docket.

IV. Final Action

EPA is approving case-by-case RACT determinations for 19 sources in Pennsylvania, as required to meet obligations pursuant to the 1997 and 2008 8-hour ozone NAAQS, as revisions to the Pennsylvania SIP.

V. Incorporation by Reference

In this document, EPA is finalizing regulatory text that includes incorporation by reference. In accordance with requirements of 1 CFR 51.5, EPA is finalizing the incorporation by reference of source-specific RACT determinations under the 1997 and 2008 8-hour ozone NAAQS for certain major sources of VOC and NOX in Pennsylvania. EPA has made, and will continue to make, these materials generally available through https://www.regulations.gov and at the EPA Region III Office (please contact the person identified in the For Further Information Contact section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.⁴¹

⁴¹ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

C. Petitions for Judicial Review

Under section 307(b)(1) of the CAA, petitions for judicial review of this action must be filed in the United States Court of Appeals for the appropriate circuit by December 15, 2020. Filing a petition for reconsideration by the Administrator of this final rule does not affect the finality of this action for the purposes of judicial review nor does it extend the time within which a petition for judicial review may be filed, and shall not postpone the effectiveness of such rule or action. This action approving Pennsylvania's NOX and VOC RACT requirements for 19 case-by-case facilities for the 1997 and 2008 8-hour ozone NAAQS may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: September 21, 2020.
Cosmo Servidio,
Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (d)(1) is amended by:

a. In the heading of the last column by removing the text “§ 52.2063 citation” and adding in its place the text “§§ 52.2063 and 52.2064 citations” and adding a footnote 1 to the table;

b. In the last column, under the new heading “Additional explanation/§§ 52.2063 and 52.2064 citations” by removing the text “52.2020” wherever it appears;

c. Revising the entries “Texas Eastern Transmission Corp.—Bernville”; “Texas Eastern Transmission Corp.—Bechtelsville”; “Boeing Defense & Space Group—Helicopters Div”; “PECO Energy Co.—USX Fairless Works Powerhouse”; “Containment Solutions, Inc. (formerly called Fluid Containment—Mt. Union)”; “Resilite Sport Products, Inc”; “Jeraco Enterprises, Inc”; “Texas Eastern Transmission Corporation” (Permit No. 22-2010); “Armstrong World Industries, Inc” (Permit No. 36-2001); “Statoil Energy Power Paxton, LP”; “Harrisburg Steamworks”; “Texas Eastern Transmission Corp”; “Texas Eastern Transmission Corporation” (Permit No. OP-34-2002); “Merck and Co., Inc”; and

d. Adding the entries at the end of the table “First Quality Tissue, LLC”; “JW Aluminum Company”; “Ward Manufacturing, LLC”; “Foam Fabricators Inc.”; “Blommer Chocolate Company”; “Wood-Mode Inc.”; “Exelon Generation—Fairless Hills (formerly referenced as PECO Energy Co.—USX Fairless Works Powerhouse)”; “The Boeing Co. (formerly referenced as Boeing Defense & Space Group—Helicopters Div)”; “Cherokee Pharmaceuticals, LLC (formerly referenced as Merck and Co., Inc)”; “Resilite Sports Products Inc.”; “NRG Energy Center Paxton, LLC (formerly referenced as Harrisburg Steamworks and Statoil Energy Power Paxton, LP)”; “Containment Solutions, Inc./Mt. Union Plant (formerly referenced as Containment Solutions, Inc. and Fluid Containment—Mt. Union)”; “Armstrong World Industries, Inc.—Marietta Ceiling Plant (formerly referenced as Armstrong World Industries, Inc.)”; “Jeraco Enterprises Inc.”; “Texas Eastern Transmission, L.P.—Bernville (formerly referenced as Texas Eastern Transmission Corp.—Bernville)”; “Texas Eastern Transmission, L.P.—Shermans Dale (formerly referenced as Texas Eastern Transmission Corp)”; “Texas Eastern Transmission, L.P.—Perulack (formerly referenced as Texas Eastern Transmission Corporation)”; “Texas Eastern Transmission, L.P.—Grantville (formerly referenced as Texas Eastern Transmission Corporation)”; and “Texas Eastern Transmission, L.P.—Bechtelsville (formerly referenced as Texas Eastern Transmission Corp.—Bechtelsville)”.

The revisions and additions read as follows:

§ 52.2020 Identification of plan.

* * * * *

(d) * * *

(1) * * *

Name of source | Permit No. | County | State effective date | EPA approval date | Additional explanations/§§ 52.2063 and 52.2064 citations¹
* * * * * * *
Texas Eastern Transmission Corp.—Bernville | OP-06-1033 | Berks | 1/31/97 | 4/18/97, 62 FR 19049 | See also 52.2064(a)(15).
Texas Eastern Transmission Corp.—Bechtelsville | OP-06-1034 | Berks | 1/31/97 | 4/18/97, 62 FR 19049 | See also 52.2064(a)(19).
* * * * * * *
Boeing Defense & Space Group—Helicopters Div | CP-23-0009 | Delaware | 9/3/97 | 12/15/00, 65 FR 78418 | See also 52.2064(a)(8).
* * * * * * *
PECO Energy Co.—USX Fairless Works Powerhouse | OP-09-0066 | Bucks | 12/31/98, 4/6/99 | 12/15/00, 65 FR 78418 | See also 52.2064(a)(7).
* * * * * * *
Containment Solutions, Inc. (formerly called Fluid Containment—Mt. Union) | OP-31-02005 | Huntingdon | 4/9/99 | 8/6/01, 66 FR 40891 | See also 52.2064(a)(12).
* * * * * * *
Resilite Sport Products, Inc | OP-49-0003 | Northumberland | 12/3/96 | 10/17/03, 68 FR 59741 | See also 52.2064(a)(10).
* * * * * * *
Jeraco Enterprises, Inc | OP-49-0014 | Northumberland | 4/6/97 | 3/29/05, 70 FR 15774 | See also 52.2064(a)(14).
* * * * * * *
Texas Eastern Transmission Corporation | 22-2010 | Dauphin | 1/31/97 | 3/31/05, 70 FR 16423 | See also 52.2064(a)(18).
* * * * * * *
Armstrong World Industries, Inc | 36-2001 | Lancaster | 7/3/99 | 11/2/05, 70 FR 66261 | See also 52.2064(a)(13).
* * * * * * *
Statoil Energy Power Paxton, LP | OP-22-02015 | Dauphin | 6/30/99 | 3/8/06, 71 FR 11514 | See also 52.2064(a)(11).
Harrisburg Steamworks | OP-22-02005 | Dauphin | 3/23/99 | 3/8/06, 71 FR 11514 | See also 52.2064(a)(11).
* * * * * * *
Texas Eastern Transmission Corp | OP-50-02001 | Perry | 4/12/99 | 4/28/06, 71 FR 25070 | See also 52.2064(a)(16).
* * * * * * *
Texas Eastern Transmission Corporation | OP-34-2002 | Juniata | 1/31/97 | 7/11/06, 71 FR 38995 | See also 52.2064(a)(17).
* * * * * * *
Merck and Co., Inc | OP-49-0007B | Northumberland | 5/16/01 | 3/4/08, 73 FR 11553 | See also 52.2064(a)(9).
* * * * * * *
First Quality Tissue, LLC | 18-00030 | Clinton | 9/18/17 | 10/16/20, [INSERT Federal Register CITATION] | 52.2064(a)(1).
JW Aluminum Company | 41-00013 | Lycoming | 3/01/17 | 10/16/20, [INSERT Federal Register CITATION] | 52.2064(a)(2).
Ward Manufacturing, LLC | 59-00004 | Tioga | 1/10/17 | 10/16/20, [INSERT Federal Register CITATION] | 52.2064(a)(3).
Foam Fabricators Inc. | 19-00002 | Columbia | 12/20/17 | 10/16/20, [INSERT Federal Register CITATION] | 52.2064(a)(4).
Blommer Chocolate Company | 46-00198 | Montgomery | 1/26/17 | 10/16/20, [INSERT Federal Register CITATION] | 52.2064(a)(5).
Wood-Mode Inc. | 55-00005 | Snyder | 7/12/17 | 10/16/20, [INSERT Federal Register CITATION] | 52.2064(a)(6).
Exelon Generation—Fairless Hills (formerly referenced as PECO Energy Co.—USX Fairless Works Powerhouse) | 09-00066 | Bucks | 1/27/17 | 10/16/20, [INSERT Federal Register CITATION] | 52.2064(a)(7).
The Boeing Co. (formerly referenced as Boeing Defense & Space Group—Helicopters Div) | 23-00009 | Delaware | 1/03/17 | 10/16/20, [INSERT Federal Register CITATION] | 52.2064(a)(8).
Cherokee Pharmaceuticals, LLC (formerly referenced as Merck and Co., Inc) | 49-00007 | Northumberland | 4/24/17 | 10/16/20, [INSERT Federal Register CITATION] | 52.2064(a)(9).
Resilite Sports Products Inc. | 49-00004 | Northumberland | 8/25/17 | 10/16/20, [INSERT Federal Register CITATION] | 52.2064(a)(10).
NRG Energy Center Paxton, LLC (formerly referenced as Harrisburg Steamworks and Statoil Energy Power Paxton, LP) | 22-05005 | Dauphin | 3/16/18 | 10/16/20, [INSERT Federal Register CITATION] | 52.2064(a)(11).
Containment Solutions, Inc./Mt. Union Plant (formerly referenced as Containment Solutions, Inc. and Fluid Containment—Mt. Union) | 31-05005 | Huntingdon | 7/10/18 | 10/16/20, [INSERT Federal Register CITATION] | 52.2064(a)(12).
Armstrong World Industries, Inc.—Marietta Ceiling Plant (formerly referenced as Armstrong World Industries, Inc.) | 36-05001 | Lancaster | 6/28/18 | 10/16/20, [INSERT Federal Register CITATION] | 52.2064(a)(13).
Jeraco Enterprises Inc. | 49-00014 | Northumberland | 1/26/18 | 10/16/20, [INSERT Federal Register CITATION] | 52.2064(a)(14).
Texas Eastern Transmission, L.P.—Bernville (formerly referenced as Texas Eastern Transmission Corp.—Bernville) | 06-05033 | Berks | 3/16/18 | 10/16/20, [INSERT Federal Register CITATION] | 52.2064(a)(15).
Texas Eastern Transmission, L.P.—Shermans Dale (formerly referenced as Texas Eastern Transmission Corp) | 50-05001 | Perry | 3/26/18 | 10/16/20, [INSERT Federal Register CITATION] | 52.2064(a)(16).
Texas Eastern Transmission, L.P.—Perulack (formerly referenced as Texas Eastern Transmission Corporation) | 34-05002 | Juniata | 3/27/18 | 10/16/20, [INSERT Federal Register CITATION] | 52.2064(a)(17).
Texas Eastern Transmission, L.P.—Grantville (formerly referenced as Texas Eastern Transmission Corporation) | 22-05010 | Dauphin | 3/16/18 | 10/16/20, [INSERT Federal Register CITATION] | 52.2064(a)(18).
Texas Eastern Transmission, L.P.—Bechtelsville (formerly referenced as Texas Eastern Transmission Corp.—Bechtelsville) | 06-05034 | Berks | 4/19/18 | 10/16/20, [INSERT Federal Register CITATION] | 52.2064(a)(19).
¹ The cross-references that are not § 52.2064 are to material that pre-date the notebook format. For more information, see § 52.2063.

* * * * *

3. Section 52.2064 is added to subpart NN to read as follows:

§ 52.2064 EPA-approved Source-Specific Reasonably Available Control Technology (RACT) for Volatile Organic Compounds (VOC) and Oxides of Nitrogen (NOX).

This section explains the EPA-approved Source-Specific Reasonably Available Control Technology (RACT) Requirements for Volatile Organic Compounds (VOC) and Oxides of Nitrogen (NOX) incorporated by reference as part of the Pennsylvania State Implementation Plan (SIP) identified in § 52.2020(d)(1).

(a) Approval of source-specific RACT requirements for 1997 and 2008 8-hour ozone national ambient air quality standards for the facilities listed below are incorporated as specified below. (Rulemaking Docket No. EPA-OAR-2019-0686).

(1) First Quality Tissue, LLC—Incorporating by reference Permit No. 18-00030, issued September 18, 2017, as redacted by Pennsylvania.

(2) JW Aluminum Company—Incorporating by reference Permit No. 41-00013, issued March 1, 2017, as redacted by Pennsylvania.

(3) Ward Manufacturing, LLC—Incorporating by reference Permit No. 59-00004, issued January 10, 2017, as redacted by Pennsylvania.

(4) Foam Fabricators Inc.—Incorporating by reference Permit No. 19-00002, issued December 20, 2017, as redacted by Pennsylvania.

(5) Blommer Chocolate Company—Incorporating by reference Permit No. 46-00198, issued January 26, 2017, as redacted by Pennsylvania.

(6) Wood-Mode Inc.—Incorporating by reference Permit No. 55-00005, issued July 12, 2017, as redacted by Pennsylvania.

(7) Exelon Generation—Fairless Hills—Incorporating by reference Permit No. 09-00066, issued January 27, 2017, as redacted by Pennsylvania, which supersedes the prior RACT Permit No. OP-09-0066, issued December 31, 1998 and amended April 6, 1999, except for Conditions 10, 11.A, 11.C, 11.D, 12, 13, 14, and 15, which remain as RACT requirements for the two remaining Boilers No. 4, Serial 2818 (now Source ID 044) and No. 5, Serial 2819 (now Source ID 045). See also § 52.2063(c)(143)(i)(B)(15) for prior RACT approval.

(8) The Boeing Co.—Incorporating by reference Permit No. 23-00009, issued August, as redacted by Pennsylvania, which supersedes the prior RACT Permit No. CP-23-0009, issued September 3, 1997, except for Conditions 5.A, 5.C.1-3, and 5.D.2 and 4 (applicable to Source ID 251, Composite Manufacturing Operations); Conditions 7.A, 7.B.1-4, 7.D.1 and 7.E (applicable to Source ID 216, Paint Gun Cleaning); Condition 11.A, 11.C-E and 11.G (applicable to all solvent wiping and cleaning facility-wide); Condition 12 (applicable to listed de minimis VOC emission sources facility-wide); Condition 14.A (applicable to Source IDs 041, 050 and 051, Emergency Generators and Diesel Fire Pump); Conditions 15.B and 16.B (applicable to Source IDs 033 and 039, Cleaver Brooks Boilers 1 and 2); Condition 15.D (applicable to Source ID 042, 4 combustion turbines); Condition 16.C (applicable to Source IDs 041, 050, 050A, 051, 051A, and 051B, Emergency Generators); and Condition 16.D (applicable to Source ID 039, Cleaver Brooks Boiler 2), which remain as RACT requirements. See also § 52.2063(c)(143)(i)(B)(1) for prior RACT approval.

(9) Cherokee Pharmaceuticals, LLC—Incorporating by reference Permit No. 49-00007, issued April 24, 2017, as redacted by Pennsylvania. All permit conditions in the prior RACT Permit No. OP-49-0007B, issued May 16, 2001 remain as RACT requirements. See also § 52.2063(d)(1)(v) for prior RACT approval.

(10) Resilite Sports Products Inc—Incorporating by reference Permit No. 49-00004, issued August 25, 2017, as redacted by Pennsylvania. All permit conditions in the prior RACT Permit No. OP-49-0003 issued December 3, 1996, remain as RACT requirements except for Condition 5c, which is superseded by the new permit. See also § 52.2063(c)(207)(i)(B)(1) for prior RACT approval.

(11) NRG Energy Center Paxton, LLC—Incorporating by reference Permit No. 49-00004, issued March 16, 2018, as redacted by Pennsylvania, which supersedes the prior RACT Permit Nos. OP-22-02005 and OP-22-02015, both issued March 23, 1999, for Source IDs 032 and 033, Boilers No. 13 and 14. However, RACT Permit No. OP-22-02005 remains in effect as to Source IDs 031 and 034, Boilers No. 12 and 15, except for Conditions 1(a), 7, 14, 16, 21; and RACT Permit No. OP-22-02015 remains in effect as to Source IDs 102 and 103, Engines 1 and 2, except for Conditions 1(a), 7, 8, 9, 10, 12(c), 13, 14. See also § 52.2063(d)(1)(l) for prior RACT approval.

(12) Containment Solutions, Inc./Mt. Union Plant—Incorporating by reference Permit No. 31-05005, issued July 10, 2018, as redacted by Pennsylvania, which supersedes the prior RACT Permit No. OP-31-02005, issued April 9, 1999. See also § 52.2063 (c)(149)(i)(B)(11) for prior RACT approval.

(13) Armstrong World Industries, Inc.—Marietta Ceiling Plant—Incorporating by reference Permit No. 36-05001, issued June 28, 2018, as redacted by Pennsylvania, which supersedes the prior RACT Permit No. 36-2001, issued July 3, 1999. See also § 52.2063(d)(1)(b) for prior RACT approval.

(14) Jeraco Enterprises Inc.—Incorporating by reference Permit No. 49-00014, issued January 26, 2018, as redacted by Pennsylvania. All permit conditions in the prior RACT Permit No. OP-49-0014, issued April 6, 1997, remain as RACT requirements. See also § 52.2063(d)(1)(h) for prior RACT approval.

(15) Texas Eastern Transmission, L.P.—Bernville—Incorporating by reference Permit No. 06-05033, issued March 16, 2018, as redacted by Pennsylvania, which supersedes the prior RACT Permit No. OP-06-1033, issued January 31, 1997, except for Conditions 6, 7, 9, 10, 11, 12 and 13 which remain as RACT requirements. See also § 52.2063(c)(120)(i)(B)(1) for prior RACT approval.

(16) Texas Eastern Transmission, L.P.—Shermans Dale—Incorporating by reference Permit No. 50-05001, issued March 26, 2018, as redacted by Pennsylvania, which supersedes the prior RACT Permit No. OP-50-02001, issued April 12, 1999. See also § 52.2063(d)(1)(n) for prior RACT approval.

(17) Texas Eastern Transmission, L.P.—Perulack—Incorporating by reference Permit No. 34-05002, issued March 16, 2018, as redacted by Pennsylvania, which supersedes the prior RACT Permit No. OP-34-2002, issued January 31, 1997, except for Conditions 5.c, 6.a and 15 which remain as RACT requirements. See also § 52.2063(d)(1)(r) for prior RACT approval.

(18) Texas Eastern Transmission, L.P.—Grantville—Incorporating by reference Permit No. 22-05010, issued March 27, 2018, as redacted by Pennsylvania, which supersedes the prior RACT Permit No. 22-2010, issued January 31, 1997. See also § 52.2063(d)(1)(f) for prior RACT approval.

(19) Texas Eastern Transmission, L.P.—Bechtelsville—Incorporating by reference Permit No. 06-05034, issued April 19, 2018, as redacted by Pennsylvania, which supersedes the prior RACT Permit No. OP-06-1034, issued January 31, 1997. See also § 52.2063(c)(120)(i)(B)(2) for prior RACT approval.

(b) [Reserved]

[FR Doc. 2020-21139 Filed 10-15-20; 8:45 am]

BILLING CODE 6560-50-P